DEPARTMENT OF THE TREASURY

Community Development Financial Institutions Fund

Notice of Change to Funding Opportunity; Bank Enterprise Award Program

Funding Opportunity Title: Change to Notice of Funds Availability (NOFA) inviting Applications for grants under the Bank Enterprise Award Program (BEA Program).

Action: Change of Application deadline, and change of deadlines to contact BEA Program staff and AMIS-IT Help Desk staff.

Catalog of Federal Domestic Assistance (CFDA) Number: 21.021.

Executive Summary: On April 3, 2023, the Community Development Financial Institutions Fund (CDFI Fund) published a Notice of Funds Availability (NOFA) for grants under the Bank Enterprise Award Program (BEA Program) in the Federal Register (88 FR 19715) announcing the availability of approximately $70 million in grants, pursuant to the Consolidated Appropriations Act, 2023 (Pub. L. 117-328). The CDFI Fund is issuing this notice to amend five deadlines contained within the NOFA. The amended deadlines are listed in Table A below.

Table A—Revised Deadlines for BEA Program Applicants
Description | Original deadline | Revised deadline
Grant Application Package/SF-424 Mandatory (Application for Federal Assistance) | 11:59 p.m. ET on May 2, 2023 | No change.
Last day to register a user and organization in AMIS | 5:00 p.m. ET on May 2, 2023 | No change.
Last day to enter, edit or delete BEA transactions and verify addresses/census tracts in AMIS | 5:00 p.m. ET on May 30, 2023 | 5:00 p.m. ET on June 6, 2023.
Last day to contact BEA Program Staff re: BEA Program Application materials | 5:00 p.m. ET on May 30, 2023 | 5:00 p.m. ET on June 6, 2023.
Last day to contact CDFI Fund with questions about Compliance or CDFI Certification | 5:00 p.m. ET on May 30, 2023 | 5:00 p.m. ET on June 6, 2023.
Last day to contact IT Help Desk re: AMIS support and submission of the FY 2023 BEA Program Electronic Application in AMIS | 5:00 p.m. ET on June 1, 2023 | 5:00 p.m. ET on June 8, 2023.
Submit completed FY 2023 BEA Program Electronic Application | 5:00 p.m. ET on June 1, 2023 | 5:00 p.m. ET on June 8, 2023.

All other deadlines shall remain in accordance with the NOFA published on April 3, 2023.

I. Agency Contacts

A. General information and CDFI Fund support: The CDFI Fund will respond to questions concerning the NOFA and the Application between the hours of 9:00 a.m. and 5:00 p.m. Eastern Time, starting on the date that the NOFA was published through the dates listed in this notice. The CDFI Fund strongly recommends Applicants submit questions to the CDFI Fund via an AMIS service request to the CDFI BEA Program, Office of Certification Policy and Evaluation, the Office of Compliance Monitoring and Evaluation, or IT Help Desk. Other information regarding the CDFI Fund and its programs may be obtained from the CDFI Fund's website at http://www.cdfifund.gov.

B. The CDFI Fund's contact information is as follows:

Table B—Contact Information
Type of question | Preferred method | Telephone number (not toll free) | Email addresses
CDFI BEA Questions | Service Request via AMIS | 202-653-0421 | bea@cdfi.treas.gov.
CDFI Certification | Service Request via AMIS | 202-653-0423 | ccme@cdfi.treas.gov.
Compliance Monitoring and Evaluation | Service Request via AMIS | 202-653-0423 | ccme@cdfi.treas.gov.
AMIS—IT Help Desk | Service Request via AMIS | 202-653-0422 | AMIS@cdfi.treas.gov.

C. Communication with the CDFI Fund. The CDFI Fund will use the contact information in AMIS to communicate with Applicants and Recipients. It is imperative therefore, that Applicants, Recipients, Subsidiaries, Affiliates, and signatories maintain accurate contact information in their accounts. This includes information such as contact names (especially for the Authorized Representative), email addresses, fax and phone numbers, and office locations. For more information about AMIS, please see the AMIS Landing Page at https://amis.cdfifund.gov.

Authority: Pub. L. 117-328; 12 U.S.C. 1834a, 4703, 4703 note, 4713; 12 CFR part 1806.

Dated: May 16, 2023.
Marcia Sigal,
Acting Director, Community Development Financial Institutions Fund.

[FR Doc. 2023-10767 Filed 5-18-23; 8:45 am]

BILLING CODE 4810-70-P